SOCIAL SECURITY ADMINISTRATION

[Docket No. SSA-2012-0072]

Finding Regarding Foreign Social Insurance or Pension System—Romania

AGENCY: Social Security Administration (SSA)

ACTION: Notice of Finding Regarding Foreign Social Insurance or Pension System—Romania.

FINDING: Section 202(t)(1) of the Social Security Act (42 U.S.C. 402(t)(1)) prohibits payment of monthly benefits to any individual who is not a United States citizen or national for any month after he or she has been outside the United States for 6 consecutive months. This prohibition does not apply to such an individual where one of the exceptions described in section 202(t)(2) through 202(t)(5) of the Social Security Act (42 U.S.C. 402(t)(2) through 402(t)(5)) affects his or her case.

Section 202(t)(2) of the Social Security Act provides that, subject to certain residency requirements of Section 202(t)(11), the prohibition against payment shall not apply to any individual who is a citizen of a country which the Commissioner of Social Security finds has in effect a social insurance or pension system which is of general application in such country and which:

(a) Pays periodic benefits, or the actuarial equivalent thereof, on account of old age, retirement, or death; and

(b) Permits individuals who are United States citizens but not citizens of that country and who qualify for such benefits to receive those benefits, or the actuarial equivalent thereof, while outside the foreign country regardless of the duration of the absence.

The Commissioner of Social Security has delegated the authority to make such a finding to the Associate Commissioner of the Office of International Programs. Under that authority, the Associate Commissioner of the Office of International Programs has approved a finding that Romania, beginning January 1, 2011, has a social insurance system of general application which:

(a) Pays periodic benefits, or the actuarial equivalent thereof, on account of old age, retirement, or death; and

(b) Permits United States citizens who are not citizens of Romania to receive such benefits, or their actuarial equivalent, at the full rate without qualification or restriction while outside Romania.

Accordingly, it is hereby determined and found that Romania has in effect, beginning January 1, 2011, a social insurance system which meets the requirements of section 202(t)(2) of the Social Security Act (42 U.S.C. 402(t)(2).

In 1968, we determined that Romania had a system that met the requirements of 202(t)(2)(A) of the Social Security Act (Act), but not the requirements of 202(t)(2)(B) of the Act. We based that determination on a finding that “citizens of the United States, not citizens of Romania, who leave Romania, are not permitted to receive such benefits or their actuarial equivalent at the full rate without qualification or restriction while outside that country.” We published notice of our determination in the Federal Register October 23, 1968 (33 FR 15679).

In 2010, Romania instituted a new unitary public pension law that entered into force on January 1, 2011. The law unified the country's social insurance system and instituted additional provisions. The new system includes social insurance, mandatory individual accounts, and voluntary individual accounts. The changes to Romania's social insurance system necessitate a new determination under section 202(t)(2).

FOR FURTHER INFORMATION CONTACT: Donna Powers, 3700 Robert Ball Building, 6401 Security Boulevard, Baltimore, MD 21235-6401, (410) 965-3558.

(Catalog of Federal Domestic Assistance: Program Nos. 96.001 Social Security—Disability Insurance; 96.002 Social Security—Retirement Insurance; 96.004 Social Security—Survivors Insurance)

Dated: January 7, 2013.
Vance Teel,
Acting Associate Commissioner, Office of International Programs.

[FR Doc. 2013-00493 Filed 1-11-13; 8:45 am]

BILLING CODE 4191-02-P